NATIONAL SCIENCE FOUNDATION

Public Availability of the National Science Foundation FY 2017 and FY 2018 Service Contract Inventory and Associated Documents

AGENCY: National Science Foundation.

ACTION: Notice of public availability of FY 2017 and FY 2018 service contract inventories and associated documents.

SUMMARY: In accordance with Section 743 of Division C of the Consolidated Appropriations Act of 2010, the National Science Foundation is publishing this notice to advise the public of the availability of NSF's FY 2017 and FY 2018 service contract inventory data.

FOR FURTHER INFORMATION CONTACT: Questions regarding the service contract inventory should be directed to Richard Pihl in the BFA/DACS at 703-292-7395 or rpihl@nsf.gov.

SUPPLEMENTARY INFORMATION: This inventory provides information on service contract actions that were made in FY 2017 and 2018. The inventory has been developed in accordance with guidance issued on November 5, 2010, and December 19, 2011, by the Office of Management and Budget's Office of Federal Procurement Policy (OFPP). The FY 2017 and 2018 government-wide service contract inventories are available at https://www.acquisition.gov/service-contract-inventory/. NSF's FY 2017 and 2018 service contract inventory data is included in the government-wide inventory posted on https://www.acquisition.gov and the government-wide inventory can be filtered to display the inventory data for NSF. The National Science Foundation has posted its FY 2016 NSF Inventory Analysis including FY 2017 Analysis Plan and its FY 2017 NSF Inventory Analysis including FY 2018 Analysis Plan on the National Science Foundation homepage at the following links:

FY 2016 NSF Inventory Analysis Including FY 2017 Analysis Plan (NSF 20-102)

(https://www.nsf.gov/publications/pub_summ.jsp?ods_key=nsf20102)

FY 2017 NSF Inventory Analysis Including FY 2018 Analysis Plan (NSF 20-103)

(https://www.nsf.gov/publications/pub_summ.jsp?ods_key=nsf20103)

Dated: June 29, 2020.
Suzanne H. Plimpton,
Reports Clearance Officer, National Science Foundation.

[FR Doc. 2020-14333 Filed 7-13-20; 8:45 am]

BILLING CODE 7555-01-P